DEPARTMENT OF TRANSPORTATION

National Highway Traffic Safety Administration

[NHTSA-2006-24701]

Reports, Forms, and Recordkeeping Requirements; Agency Information Collection Activity Under OMB Review

AGENCY: National Highway Traffic Safety Administration (NHTSA), Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 27, 2006 (71 FR 9859).

DATES: Comments must be received on or before June 12, 2006.

FOR FURTHER INFORMATION CONTACT: David Bonelli, Office of Chief Counsel, NCC-110, telephone (202) 366-1834, fax (202) 366-3820; NHTSA, 400 Seventh Street, SW., Washington, DC 20590.

SUPPLEMENTARY INFORMATION: Title: Grant Program to Prohibit Racial Profiling, State Traffic Safety Information System Improvements, and Child Safety and Child Booster Seat Incentive Grants.

OMB Control Number: N/A.

Requested Expiration Date of Approval: Three years from the approval date.

Type of Request: New collection.

Affected Public: State Governments.

Form Number: HS-217

Abstract: The Safe, Accountable, Flexible, Efficient Transportation Equity Act—A Legacy for Users (SAFETEA-LU), Public Law 109-59, authorizes several grant programs covering fiscal years (FY) 2006-2009, to be administered by the National Highway Traffic Safety Administration (NHTSA).

Section 1906 authorizes a grant program for States that enact and enforce a law that prohibits the use of racial profiling in the enforcement of traffic laws on Federal-aid highways. To be eligible for a grant, a State must have such a law and maintain and allow public inspection of statistical information for each motor vehicle stop in the state showing the race and ethnicity of the driver and any passengers. A State may also receive a grant if it provides assurances satisfactory to the Secretary of Transportation that the State is undertaking activities that will lead to compliance with the requirements of this section.

Section 2006 authorizes a grant program to support the development and implementation of State traffic safety information systems. The program provides grants to eligible States to support the development of effective programs to improve State traffic safety data and the compatibility and interoperability of State data systems with national and State data systems.

Section 2011 authorizes a grant program for child safety seats and child booster seats. The program provides grant funds to States that enforce a law requiring that all children under the age of 8 be secured in a child restraint meeting applicable Federal motor vehicle safety standards.

The information collected for these grant programs is to include various reporting requirements. A State that receives grant funds must indicate to NHTSA how it intends to obligate and expend grant funds for each fiscal year, and how grant funds were expended and spent each fiscal year. It is important for NHTSA to be notified about these activities so that it can effectively administer the programs and account for the expenditure of funds. To reduce burdens, A State will document these activities largely by making use of mechanisms that have received PRA clearance for other similar highway safety programs. A State will first notify NHTSA of its obligation of funds in accordance with the applicable provisions of SAFETEA-LU by submitting a Program Cost Summary (HS-217), a form with existing PRA clearance, within 30 days of the award notification. A State will also report to NHTSA, as part of its annual Highway Safety Plan under 23 U.S.C. 402, on how it intends to obligate and expend grant funds for each fiscal year. This reporting requirement, however, will not be a significant extra burden for the States because they are already required by statute to submit an annual Highway Safety Plan. Finally, a State that receives grants funds must submit each fiscal year, as part of the Annual Report for its highway safety program pursuant to 23 CFR 1200.33, a report indicating how grant funds were expended and identifying the programs carried out with the grant funds. Again, this reporting requirement will not be a significant extra burden for the States because they are already required by regulation to submit an Annual Report for their highway safety program. In addition, for the Section 2011 program, this report is required by provisions of SAFETEA-LU.

Estimated Annual Burden: 5,130.

Estimated Number of Respondents: 52 (fifty States, the District of Columbia, and Puerto Rico) for Child Safety and Child Booster Seat Incentive Grants; 56 (fifty States, District of Columbia, Puerto Rico, Virgin Islands, Guam, American Samoa, and the Commonwealth of the Northern Mariana Islands) for Grant Program to Prohibit Racial Profiling; and 57 (fifty States, District of Columbia, Puerto Rico, Virgin Islands, Guam, American Samoa, the Commonwealth of the Northern Mariana Islands, and the Bureau of Indian Affairs) for the State Traffic Safety Information System Improvements.

ADDRESSES: Send comments, within 30 days, to the Office of Information and Regulatory Affairs, Office of Management and Budget, 725 17th Street, NW., Washington, DC 20503, Attention NHTSA Desk Officer.

The Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: May 8, 2006.
John Donaldson,
Assistant Chief Counsel for Legislation and General Law.

[FR Doc. E6-7235 Filed 5-11-06; 8:45 am]

BILLING CODE 4910-59-P